ENVIRONMENTAL PROTECTION AGENCY

[FRL-8730-2; Docket ID No. EPA-HQ-ORD-2008-00461]

Draft Toxicological Review of Tetrachloroethylene (Perchloroethylene): In Support of the Summary Information in the Integrated Risk Information System (IRIS)

AGENCY: Environmental Protection Agency (EPA).

ACTION: Notice of peer-review meeting.

SUMMARY: EPA is announcing that the National Academy of Sciences (NAS) will convene an independent panel of experts and organize and conduct a review of the draft document titled, “Toxicological Review of Tetrachloroethylene (Perchloroethylene): In Support of Summary Information on the Integrated Risk Information System (IRIS)” (EPA/635/R-08/011A). The NAS is organizing, convening, and conducting this independent peer-review meeting. A public meeting of the NAS peer review panel will be held on November 13, 2008.

The draft document was prepared by the National Center for Environmental Assessment (NCEA) within EPA's Office of Research and Development and was released on June 26, 2008, (73 FR 36321) solely for the purpose of pre-dissemination peer review under applicable information quality guidelines. This document has not been formally disseminated by EPA. It does not represent and should not be construed to represent any Agency policy or determination.

The draft “Toxicological Review of Tetrachloroethylene (Perchloroethylene): In Support of Summary Information on the Integrated Risk Information System (IRIS)” is available on the Internet on NCEA's home page under a June 26, 2008, Recent Additions entry and the Data and Publications menus at http://www.epa.gov/ncea. Copies are not available from NAS.

In previous Federal Register notices concerning this draft document, EPA announced a 90-day public comment period that ended September 24, 2008, (73 FR 36321), as well as a public listening session that was held on August 18 (73 FR 43932). Submitted public comments may be accessed at http://www.regulations.gov under Docket ID No. EPA-HQ-ORD-2008-0461. EPA intends to forward public comments submitted in accordance with the June 26, 2008, Federal Register notice to the NAS for consideration by the external peer review panel prior to the November 13, 2008, meeting. In finalizing the draft document, EPA will consider public comments and recommendations from the expert panel.

NAS invites the public to register to attend this peer review panel meeting as observers. In addition, NAS invites the public to give oral and/or provide written comments at the meeting regarding the draft document under review. Space is limited, and reservations will be accepted on a first-come, first-served basis. A time limit for presentations will be specified by the NAS based on the number of registrants.

DATES: The peer-review panel meeting will be held on November 13, 2008, beginning at 1 p.m. and ending at 4 p.m.

ADDRESSES: The peer-review panel meeting will be held at the NAS's Keck Center, 500 Fifth St., NW., Washington, DC 20001, in Room 201. For details about registering for and attending the meeting, please see the NAS's Web site at http://www8.nationalacademies.org/cp/projectview.aspx?key=48697.

FOR FURTHER INFORMATION CONTACT: Questions regarding information, registration, access or services for individuals with disabilities, or logistics for the external peer-review panel meeting should be directed to NAS. For further information, please see the NAS's Web site http://www8.nationalacademies.org/cp/projectview.aspx?key=48697. For technical information about the document, please contact the Information Management Team, NCEA; telephone: 703-347-8561; facsimile: 703-347-8691; e-mail nceadc.comment@epa.gov.

Dated: October 8, 2008.
Peter Preuss,
Director, National Center for Environmental Assessment.

[FR Doc. E8-24595 Filed 10-15-08; 8:45 am]

BILLING CODE 6560-50-P